DEPARTMENT OF TRANSPORTATION

Federal Highway Administration

Termination of Draft Environmental Impact Statement; Milwaukee and Waukesha Counties, Wisconsin

AGENCY: Federal Highway Administration (FHWA), DOT.

ACTION: Notice of intent.

SUMMARY: The FHWA is issuing this notice to advise that FHWA is terminating the Environmental Policy Act (EIS) process at the conclusion of the Draft Environmental Impact Statement/Major Investment Study (DEIS/MIS) phase of the project development. The FHWA and the WisDOT have jointly decided to not continue with completion of the EIS process for the IH 94 East-West Corridor Study. Work completed to date on the DEIS/MIS will serve as a starting point for developing environmental analysis and documentation for potential individual projects expected to follow. The DEIS/MIS was completed and made available to the public on November 8, 1996.

FOR FURTHER INFORMATION CONTACT: William K. Fung, FHWA Wisconsin Division Administrator; Telephone: (608) 829-7500, FHWA Wisconsin Division Office, 567 D'Onofrio Drive, Madison, WI 53719-2814.

SUPPLEMENTARY INFORMATION:

Electronic Access

An electronic copy of this document may be downloaded using a modem and suitable communications software from the Government Printing Office's Electronic Bulletin Board Service at (202) 512-1661. Internet users may reach the Federal Register's home page at: http://www.nara.gov/fedreg and the Government Printing Office's database at http://www.access.gpo.gov/nara.

Background

The FHWA, in cooperation with the Wisconsin Department of Transportation (WisDOT) is closing the Major Investment Study (MIS) for the I-94 East-West Corridor study in Milwaukee and Waukesha Counties, Wisconsin. The Draft Environmental Impact Statement (DEIS)/MIS was made available to the public on November 8, 1996. The DEIS/MIS evaluated five transportation components: (1) Redesign of the Marquette Interchange (I-94/I-43/I-794); (2) re-design of the East-West Freeway (I-94) between downtown Milwaukee and Waukesha; (3) special purpose lanes for carpools and buses in the East-West Freeway Corridor; (4) light rail transit in Milwaukee County; and (5) expanded bus transit service throughout the metro Milwaukee area.

A Locally Preferred Alternative (LPA) which included all five of the above-mentioned transportation components was accepted by the relevant county boards in 1997. However, none of the elements of the LPA have advanced into preliminary engineering. Developing the LPA completed the MIS process. Therefore, FHWA is concluding the Major Investment Study process for the I-94 East-West Corridor in Milwaukee and Waukesha Counties.

Because the corridor-wide MIS is in place, and recognizing that the components of the LPA are unlikely to proceed on the same schedule, the I-94 East-West Corridor DEIS will not be followed by a corridor-wide Final EIS or Record of Decision. The previous work completed on the DEIS will now serve to provide a solid foundation of information on which to begin environmental analysis of individual components. Then, if found to satisfy State and Federal requirements, the individual component could be advanced through the final design and construction phases. Advancing an individual component requires its own sponsoring agency. This advancement of a component would not preclude or assure that another component would move forward.

(Catalog of Federal Domestic Assistance Program Number 20.205, Highway Planning and Construction. The regulations implementing Executive Order 12372 regarding intergovernmental consultation on Federal programs and activities apply to this program)

Authority: 23 U.S.C. 315; 49 CFR 1.48.

Issued on: June 14, 2000.
William K. Fung,
Division Administrator, Federal Highway Administration, Madison, WI.

[FR Doc. 00-16005 Filed 6-23-00; 8:45 am]

BILLING CODE 4910-22-M